NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 27, 2017. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2018-024

1. Applicant: Joseph A. Covi, University of North Carolina at Wilmington, Department of Biology and Marine Biology, Wilmington, NC 28403.

Activity for Which Permit Is Requested

Enter Antarctic Specially Protected Areas. The application proposes to enter four Antarctic Specially Protected Areas (ASPAs) on King George Island, South Shetland Islands, Antarctica for the purposes of collecting small sediment samples from freshwater lakes and ephemeral ponds. The applicant would enter ASPA 125, Fildes Peninsula; ASPA 132, Potter Peninsula; ASPA 150, Ardley Island, Maxwell Bay; and ASPA 171 Narebski Point, Barton Peninsula. The applicant plans to access the ASPAs by boat and on foot. Up to six sediment samples will be collected near the shoreline or from an inflatable boat from each of up to eight lakes and eight ephemeral ponds in total. Sediment core samples may be taken through holes drilled in the ice cover, as applicable. The applicant and agents will adhere to the management plans for each of the ASPAs that they propose to enter.

Location

King George Island, South Shetland Islands, Antarctica; ASPA 125, Fildes Peninsula; ASPA 132, Potter Peninsula; ASPA 150, Ardley Island, Maxwell Bay; and ASPA 171 Narebski Point, Barton Peninsula.

Dates of Permitted Activities

January 23, 2018-March 1, 2019.

Nadene G. Kennedy,
Polar Coordination Specialist, Office of Polar Programs.

[FR Doc. 2017-23361 Filed 10-26-17; 8:45 am]

BILLING CODE 7555-01-P